DEPARTMENT OF DEFENSE

Office of the Secretary

32 CFR Part 68

[Docket No. DoD-2009-OS-0034]

RIN 0790-AI50

Voluntary Education Programs

AGENCY: Office of the Under Secretary of Defense for Personnel and Readiness, DoD.

ACTION: Proposed rule.

SUMMARY: The Department of Defense (DoD) proposes to implement policy, assign responsibilities, and prescribe procedures for the operation of voluntary education programs within DoD. Included are: Procedures for Service members participating in education programs; guidelines for establishing, maintaining, and operating voluntary education programs including, but not limited to, instructor-led courses offered on-installation and off-installation, as well as via distance learning; procedures for obtaining on-base voluntary education programs and services; minimum criteria for selecting institutions to deliver higher education programs and services on military installations; the establishment of a DoD Voluntary Education Partnership Memorandum of Understanding between DoD and educational institutions receiving tuition assistance payments; and procedures for other education programs for Service members and their adult family members.

DATES: Comments must be received by October 5, 2010.

ADDRESSES: You may submit comments, identified by docket number and or RIN number and title, by any of the following methods:

• Federal Rulemaking Portal: http://www.regulations.gov. Follow the instructions for submitting comments.

• Mail: Federal Docket Management System Office, 1160 Defense Pentagon, Washington, DC 20301-1160.

Instructions: All submissions received must include the agency name and docket number or Regulatory Information Number (RIN) for this Federal Register document. The general policy for comments and other submissions from members of the public is to make these submissions available for public viewing on the Internet at http://www.regulations.gov as they are received without change, including any personal identifiers or contact information.

FOR FURTHER INFORMATION CONTACT: Kerrie Tucker at 703-602-4949, extension 117.

SUPPLEMENTARY INFORMATION:

Regulatory Procedures

Executive Order 12866, “Regulatory Planning and Review”

It has been certified that 32 CFR part 68 is a significant regulatory action. The rule has an annual effect on the economy of $100 million or more.

The rule does not:

(1) Adversely affect in a material way the economy; a section of the economy; productivity; competition; jobs; the environment; public health or safety; or State, local, or tribal governments or communities;

(2) Create a serious inconsistency or otherwise interfere with an action taken or planned by another Agency;

(3) Materially alter the budgetary impact of entitlements, grants, user fees, or loan programs, or the rights and obligations of recipients thereof; or

(4) Raise novel legal or policy issues arising out of legal mandates, the President's priorities, or the principles set forth in this Executive Order.

Funding for Voluntary Education Programs is authorized by law and is subject to the availability of funds from each Service. Voluntary education programs include tuition assistance (per section 2007 of title 10, United States Code), which is administered uniformly across the Services. Each Service pays no more than $250.00 per semester-unit for tuition and fees combined. Each Service member participating in off-duty, voluntary education is authorized up to $4,500.00, in aggregate, for each fiscal year. As per NDAA FY08, each of the Services may also provide TA to activated Service members of the Selected Reserves and Individual Ready Reserve. For Fiscal Year 2009 (FY09), the Services executed approximately $800 million for Off-Duty and Voluntary Education Programs. For Fiscal Year 2010 (FY10), the President's Budget for Off-Duty and Voluntary Education is approximately $790 million, with $208 million programmed for operational costs and $582 million programmed for tuition assistance costs.

Section 202, Public Law 104-4, “Unfunded Mandates Reform Act”

It has been certified that 32 CFR part 68 does not contain a Federal mandate that may result in expenditure by State, local and tribal governments, in aggregate, or by the private sector, of $100 million or more in any one year.

Public Law 96-354, “Regulatory Flexibility Act” (5 U.S.C. 601)

It has been certified that 32 CFR part 68 is not subject to the Regulatory Flexibility Act (5 U.S.C. 601) because it would not, if promulgated, have a significant economic impact on a substantial number of small entities. The rule updates policy and procedures for the voluntary education programs within DoD for Service members and their adult eligible family members. Guidance on voluntary education programs is available through the Education Centers located on military installations.

Public Law 96-511, “Paperwork Reduction Act”

It has been certified that 32 CFR part 68 does not impose reporting or recordkeeping requirements under the Paperwork Reduction Act of 1995.

Executive Order 13132, “Federalism”

It has been certified that 32 CFR part 68 does not have federalism implications, as set forth in Executive Order 13132. This rule does not have substantial direct effects on:

(1) The States;

(2) The relationship between the National Government and the States; or

(3) The distribution of power and responsibilities among the various levels of Government.

List of Subjects in 32 CFR Part 68

Adult education, Armed forces, Colleges and universities, Education, Educational study programs, Government contracts, Military personnel, Student aid.

Accordingly, 32 CFR part 68 is proposed to be added to read as follows:

PART 68—VOLUNTARY EDUCATION PROGRAMS

Sec.
68.1 Purpose.
68.2 Applicability.
68.3 Definitions.
68.4 Policy.
68.5 Responsibilities.
68.6 Procedures.
Appendix A to Part 68—DoD Voluntary Education Partnership Memorandum of Understanding (MOU) Between DoD Office of the Under Secretary of Defense for Personnel and Readiness (USD(P&R)) and [NAME OF EDUCATIONAL INSTITUTION]
Appendix B to Part 68—Addendum for Education Services Between [NAME OF EDUCATIONAL INSTITUTION] and the U.S. Air Force
Appendix C to Part 68—Addendum for Education Services Between [NAME OF EDUCATIONAL INSTITUTION] and the U.S. Army
Appendix D to Part 68—Addendum for Education Services Between [NAME OF EDUCATIONAL INSTITUTION] and the U.S. Marine Corps
Appendix E to Part 68—Addendum for Education Services Between [NAME OF EDUCATIONAL INSTITUTION] and the U.S. Navy

Authority: 10 U.S.C. 2005, 2007.

§ 68.1 Purpose.

This part:

(a) Implements policy, assigns responsibilities, and prescribes procedures for the operation of voluntary education programs in the Department of Defense.

(b) Establishes the Interservice Voluntary Education Board.

§ 68.2 Applicability.

This part applies to the Office of the Secretary of Defense, the Military Departments, the Office of the Chairman of the Joint Chiefs of Staff and the Joint Staff, the Combatant Commands, the Office of the Inspector General of the Department of Defense, the Defense Agencies, the DoD Field Activities, and all other organizational entities within the Department of Defense (hereafter referred to collectively as the “DoD Components”).

§ 68.3 Definitions.

The following terms and their definitions are for the purpose of this part:

Academic. Having to do with general or liberal arts education, rather than technical or vocational.

Academic skills. Competencies in English, reading, writing, speaking, mathematics, and computer skills that are essential to successful job performance and new learning. Also referred to as functional or basic skills.

Active Guard and Reserve (AGR). National Guard or Reserve members of the Selected Reserve (SELRES) who are ordered to active duty or full-time National Guard duty for the purpose of organizing, administering, recruiting, instructing, or training the Reserve Component units or duties as prescribed in 10 U.S.C. 12310. All AGR members must be assigned against an authorized mobilization position in the unit they support. (Includes Navy full-time support (FTS), Marine Corps Active Reserve (ARs), and Coast Guard Reserve Personnel Administrators (RPAs)).

American Council on Education. The major coordinating body for all the Nation's higher education institutions. Seeks to provide leadership and a unifying voice on key higher education issues and publishes the “Guide to the Evaluation of Educational Experiences in the Armed Services.”

Annual TA Ceiling. The maximum dollar amount authorized for each Service member for TA per fiscal year. Each Service member participating in off-duty voluntary education programs shall be entitled to the full amount authorized each fiscal year in accordance with DoD policy.

Army American Council on Education Registry Transcript System. An official document, when sent directly from the Army American Council on Education Registry Transcript System center to the educational institution, which articulates a Soldier's military experience and training and the American Council on Education-recommended college credit for this training and experience.

Documented educational plan. An official academic document provided by the educational institution that articulates all courses and general education requirements required for degree completion. The documented education plan identifies all courses required for graduation in the individual's intended academic discipline and level of postsecondary study, and an evaluation of all successfully completed prior coursework, and evaluated credit for military training and experience, and other credit sources applied to the institutional degree requirements. For participating SOC Degree Network System institutions, a SOC Army Degrees, SOC Navy Degrees, SOC Marine Corps Degrees, or SOC Coast Guard Degrees Student Agreement serves as this documented education plan.

Education advisor. A professionally qualified, subject matter expert/program manager in the education field at the installation education center. The following position titles may also be used for an education advisor: Education Services Specialist, Education Services Officer (ESO), Voluntary Education Director, Navy College Office Director, and Education and Training Section (ETS) Chief.

Education center. A military installation facility, including office space, classrooms, laboratories, and other features, that is staffed with professionally qualified personnel and to conduct voluntary education programs. For Navy, this is termed the “Navy College Office.”

Educational plan. A planning document provided by the educational institution that outlines general degree requirements for graduation. Typically an educational plan presents the general education and major-related course requirements, degree competencies (e.g., foreign language, computer literacy), and elective course options that students may choose for a specified program of study. This document is required from the institution upon the successful completion of 6 semester hours by the Service member at the institution.

Family member. A family member is defined as the eligible adult of an active duty, reserve, or National Guardsman with a valid DoD or Coast Guard identification card.

IRR or Individual Ready Reserve. The IRR is a manpower pool comprised principally of individuals who have had training, have previously served in the active component or in the SELRES, and have some period of their military service obligation or other contractual obligation remaining. Some individuals volunteer to remain in the IRR beyond their military service or contractual obligation and participate in programs providing a variety of professional assignments and opportunities for earning retirement points and military benefits.

MVER or Military Voluntary Education Review. A third-party evaluation of voluntary education programs covered by the DoD Voluntary Education Partnership MOU.

Ready Reserve. Comprised of military members of the Reserve and National Guard, organized in units or as individuals, or both, and liable for involuntary order to active duty in time of war or national emergency pursuant to 10 U.S.C. 12310 and 12301 and 14 U.S.C. 712 in the case of members of the Coast Guard Reserve. The Ready Reserve consists of the SELRES, the IRR, and the Inactive National Guard.

Sailor/Marine American Council on Education Registry Transcript System. An automated, official document, when sent directly from the Sailor/Marine American Council on Education Registry Transcript System Operations Center to the educational institution, that articulates a Sailor's or Marine's military experience and training and the American Council on Education recommended college credit for this training and experience.

SELRES or Selected Reserve. Consists of those units and individuals within the Ready Reserve designated by their respective Service as essential to wartime missions and must therefore maintain a higher priority over all other Reserves. The SELRES includes Reserve unit members (including members in the training pipeline), Individual Mobilization Augmentees, and Active Guard/Reserve members.

Semester-hour TA Cap. The maximum dollar amount authorized for TA per semester-hour credit. A Service shall pay no more than the established DoD cap.

SOC or Servicemembers Opportunity Colleges. A consortium of over 1,800 colleges and universities, created in 1972, which seeks to enhance the educational opportunities to Service members who may have difficulty in completing college programs due to frequent military moves.

TA or tuition assistance. Funds provided by the Military Services or U.S. Coast Guard to pay a percentage of the charges of an educational institution for the tuition of an active duty, Reserve or National Guard member of the Armed Forces, or Coast Guard member, enrolled in approved courses of study during off-duty time. Off-duty time is defined as time when the Service member is not scheduled to perform official duties.

Top-Up. An option, under chapter 30 of the Montgomery G.I. Bill and Post-9/11 G.I. Bill, that enables active duty Service members to receive from the Department of Veterans Affairs those tuition and fee costs that exceed the amount of TA provided to the Service member by his or her Service.

Troops-to-Teachers program (TTT). The Troops-to-Teachers program is a Department of Education program administered by the DoD to help recruit quality teachers for schools that serve low-income families throughout America. TTT helps relieve teacher shortages, especially in math, science, special education, and other high-needs subject areas, and assists military personnel in making successful transitions to second careers in teaching.

Voluntary education programs. Continuing, adult, or postsecondary education programs of study that Service members elect to participate during their off-duty time, and which are available to other members of the military community.

§ 68.4 Policy.

It is DoD policy that:

(a) Members of the Armed Forces serving on active duty or actively-drilling members of the Reserve Components shall be afforded the opportunity to complete their high school education, earn an equivalency diploma, improve their academic skills or level of literacy, enroll in vocational and technical schools, receive college credit for military training and experience in accordance with the American Council on Education's “Guide to the Evaluation of Educational Experiences in the Armed Services” (available at http://www.militaryguides.acenet.edu/),” take tests to earn college credit, and enroll in postsecondary education programs that lead to undergraduate and graduate degrees.

(b) Service members' costs to participate in the DoD Voluntary Education Program as authorized by law and subject of the availability of funds, shall be reduced through financial support, including tuition assistance that is administered uniformly across the Military Services.

(c) Information and counseling about voluntary education programs shall be readily available and easy to access so that Service members are encouraged to make maximum use of the educational opportunities available.

(d) Accredited institutions shall be encouraged to provide degree programs on military installations and the Military Services shall facilitate their operations on the installations.

(e) To the extent that space is otherwise available, eligible adult family members of Service members, DoD civilians and their eligible adult family members, and DoD retirees may enroll in classes offered on a full cost basis.

§ 68.5 Responsibilities.

(a) The Under Secretary of Defense for Personnel and Readiness (USD(P&R)) shall:

(1) Monitor implementation of and ensure compliance with this part and DoD Directive 1322.08E (see http://www.dtic.mil/whs/directives/corres/pdf/132208p.pdf).

(2) Establish rates of tuition assistance (TA) to ensure uniformity across the Military Services as required by DoD Directive 1322.08E and this part.

(3) Establish the Interservice Voluntary Education Board, comprised of full-time or permanent part-time federal employees.

(4) Maintain a program to assess the effectiveness of the voluntary education programs on military installations.

(5) Issue written policy guidance annually for the funding and operation of the Defense Activity for Non-Traditional Education Support (DANTES).

(b) The Deputy Under Secretary of Defense for Military Community and Family Policy (DUSD(MC&FP)), under the authority, direction, and control of the USD(P&R), shall:

(1) Ensure compliance with this part and DoD Directive 1322.08E and related issuances.

(2) Exercise oversight over the DoD Voluntary Education Program.

(3) Provide ongoing and routine clarifying guidance for the DoD Voluntary Education Program, to include DANTES.

(4) Provide representatives to professional education and cross-agency panels addressing issues impacting the DoD voluntary education programs, its regulatory scope, clientele, and partners.

(5) Designates the Voluntary Education Chief within the Office of the DUSD(MC&FP) as the chairperson of the Interservice Voluntary Education Board.

(c) The Interservice Voluntary Education Board, under the authority, direction, and control of the Voluntary Education Chief within the Office of the DUSD(MC&FP), is comprised of one representative from the ASD(RA), and one representative each from the Army, Navy, Air Force, and Marine Corps. The Director, DANTES, shall serve as an ex officio member. Meeting quarterly, the Board shall:

(1) Provide a forum for the exchange of information and discussion of issues related to voluntary education programs.

(2) Develop recommendations for changes in policies and procedures.

(3) Develop recommendations for DANTES' activities and operations that support voluntary education programs.

(4) Review DANTES activities which support DoD voluntary education programs, to include budget execution and recommend execution year adjustments.

(5) Develop recommended policy and program guidance for DANTES for the Five-Year Defense Plan.

(d) The Director, DANTES, under the authority, direction, and control of the Voluntary Education Chief of the Educational Opportunities Directorate within the Office of the DUSD(MC&FP), shall:

(1) Support the off-duty, voluntary education programs of DoD and conduct special projects and developmental activities in support of education-related DoD functions.

(2) Assist the Military Services in providing high-quality and valuable educational opportunities for Service members, their eligible adult family members, and DoD personnel, and assist personnel in achieving professional and personal educational objectives. This role includes the consolidated management of programs that prevent duplication of effort among the Services. Through its activities, DANTES supports recruitment, retention, and the transition efforts of DoD.

(3) Assume responsibilities and functions that include:

(i) Managing and facilitating the delivery of a wide variety of examinations including the General Equivalency Diploma test, college admissions, credit-by-examination programs, and an extensive number of certification examinations.

(ii) Upon request, issuing transcripts for the United States Armed Forces Institute and the examination and certification programs.

(iii) Managing the contract through which former DoD Dependents Schools students can obtain copies of archived transcripts.

(iv) Managing the contract and functions related to the evaluation of educational experiences in the Armed Forces that are covered by the contract.

(v) Providing or developing and distributing educational materials, reference books, counseling publications, educational software, and key educational resource information to DoD, the Military Services, and the installations.

(vi) Managing the SOC program contract and related functions.

(vii) Managing the DoD contract that provides for periodic third-party reviews of DoD voluntary education programs (Military Voluntary Education Review (MVER)).

(viii) Managing the Voluntary Education Programs for Military Personnel-Management Information System includes gathering, collating, troubleshooting, and verifying participation and cost data from the Services. Providing requisite consolidated reports to USD(P&R), per DoD Instruction 1322.9 (see http://www.dtic.mil/whs/directives/corres/pdf/132209p.pdf).

(ix) Establishing, maintaining, and updating systems and processes to administer, track, and process updates to, and generate reports from, the centrally-managed DoD Voluntary Education Partnership Memorandums of Understanding (MOUs) between DoD and institutions offering coursework to military personnel and their eligible adult family members, as specified in appendices A, B, C, D, and E to this part.

(x) Managing the DoD independent study catalog and its support systems.

(xi) Negotiating, administering, and coordinating contracts for DoD Worldwide Education Symposia in support of and in conjunction with the Interservice Voluntary Education Board.

(xii) Establishing, refining, updating, and maintaining a DoD voluntary education presence on the Internet. Maintain necessary infrastructure to ensure that information on the Internet is always current and available to leadership, agency personnel, the public, and others.

(xiii) Administering the TTT program in accordance with the TTT MOU negotiated by DoD with the Department of Education, “Transfer of Funds to Administer the Troops-to-Teachers Program.” ¹

¹ For copies of this MOU or information on the Troops-to-Teachers Program, e-mail: ttt@navy.mil or call 1-800-231-6242.

(xiv) Monitoring new technological developments, providing reports, cost analyses, and recommendations on educational innovations, and conducting special projects requested by the Department of Defense and the Services, approved by the Interservice Voluntary Education Board, and as reflected and approved in DANTES' annual policy guidance.

(xv) Conducting staff development training on DANTES' policies, procedures, and practices related to voluntary education testing programs, and providing additional training as requested by the Office of the Secretary of Defense and the Services.

(xvi) Serving as the Defense Media Activity's point of contact for information on DANTES programs for military personnel.

(xvii) Providing support, as requested, to DoD and Service Quality of Life and Transition support programs.

(xviii) Providing other support in mission areas as directed by policy guidance issued by the USD(P&R) and the DUSD(MC&FP).

(4) Maintaining liaison with education services officials of the Military Services, and appropriate Federal and State agencies and educational associations, in matters related to the DANTES mission and assigned functions.

(5) Serving on panels and working groups designated by the DUSD(MC&FP) or designee.

(6) Serving as the Executive Secretary at the Interservice Voluntary Education Board meeting convened annually to review DANTES' programs and to develop recommendations for inclusion in annual policy guidance for DANTES. In this role, the Director, DANTES, shall coordinate the meeting, prepare the agenda, review and analyze DANTES' programs and initiatives outlined in the prior year's operational plan, and provide minutes after the meeting.

(7) Maintaining the repository for the DoD Voluntary Education Partnership MOU between USD(P&R) and Partner Institutions, to include Service-specific addendums. DANTES will:

(i) Administer the system per guidance from USD(P&R).

(ii) Create and maintain a data base for all signed documents.

(iii) Publish a web-based list of all institutions that have signed partnership agreements.

(8) Providing data analyses and generate reports required by DoD and the Interservice Voluntary Education Board as needed.

(e) The Assistant Secretary of Defense for Reserve Affairs (ASD(RA)), under the authority, direction, and control of the USD(P&R), shall:

(1) Ensure compliance with this part and DoD Directive 1322.08E and related issuances.

(2) Appoint a representative to serve on the Interservice Voluntary Education Board.

(3) Arrange the assignment of, on a rotating basis, a field grade officer, to serve as the Reserve Component Advisor to the Voluntary Education Chief within the Office of DUSD(MC&FP).

(f) The Secretaries of the Military Departments shall:

(1) Ensure compliance with this part and DoD Directive 1322.08E and related issuances.

(2) Establish, maintain, coordinate, and operate voluntary education programs that encompass a broad range of educational experiences including, but not limited to, academic skills development, high school completion programs, vocational and/or technical programs, and programs leading to the award of undergraduate and graduate degrees.

(3) Ensure sufficient funding is available to provide Service members with TA support consistent with the requirements in appendices A, B, C, D, and E to this part.

(4) Ensure educational counseling is available to Service members so they will have sufficient information and guidance to plan an appropriate program of study.

(5) Ensure voluntary education programs participate in the established DoD third party review process (MVER).

(i) The third-party review assesses the quality delivery, and coordination of the voluntary education programs provided to military personnel on the installation, in the community and via distance learning. It assists in improving the quality of the delivery of these programs through recommendations to institutions, installations, and the Military Services.

(ii) Waivers to the third party review must be submitted to and approved by the Voluntary Education Chief within the Office of the DUSD(MC&FP).

(6) Provide an Army, Navy, Air Force, and Marine Corps representative to serve on the Interservice Voluntary Education Board.

(7) Assign, on a rotating basis, a senior enlisted Service member in pay grade E-9 to serve as the DANTES enlisted advisor.

(8) Ensure military test control officers and test centers comply with the policies and procedures published in the DANTES Examination Program Handbook, available at http://www.dantes.doded.mil/dantes_web/library/docs/deph/part1/part1.pdf.

(9) Ensure personnel who provide counseling, advice, and program management related to voluntary education programs have access to the DoD Voluntary Education homepage and other Web sites so they can provide current and accurate information to Service members.

(10) Provide opportunities for Service members to access the Internet to enroll in and complete postsecondary courses that are part of their approved educational plan leading to an educational goal.

(g) The Secretary of the Navy, as the DoD Executive Agent (DoD EA) for DANTES per DoD Directive 1322.08E and DoD Directive 5101.1, in addition to the responsibilities in paragraph (f) of this section, shall:

(1) Transmit annual policy guidance issued by USD(P&R) to DANTES.

(2) Ensure the Director of DANTES serves as the Executive Secretary of the Interservice Voluntary Education Board and prepares the agenda and minutes of meetings.

(3) Ensure the Director of DANTES provides updates on DANTES plans, operations, and activities to the USD(P&R).

(4) Through its civilian personnel system, will advertise the position of Director of DANTES when the position is vacated. The Secretary of the Navy, as the DoD EA, will appoint the Director of DANTES in accordance with the procedures outlined in § 68.6.

§ 68.6 Procedures.

(a) TA for Service members participating in education programs. (1) TA shall be available for Service members participating in high school completion and accredited undergraduate or graduate education programs. Approved courses are those that are part of an identified course of study leading to a postsecondary certificate or degree and non-degree oriented language courses integral to the Defense Language Transformation Roadmap (available at http://www.defense.gov/news/Mar2005/d20050330roadmap.pdf).

(i) Use of TA for non-degree oriented language courses is limited to those published by the Deputy Under Secretary of Defense (Plans) as strategic stronghold or immediate investment languages.

(ii) Dominant-in-the-force languages and languages deemed by DoD as already having sufficient strategic capacity authorized will not be funded under title 10 of the U.S. Code, except for OCONUS assignments.

(2) TA shall be applied:

(i) For 100 percent of the cost of approved high school completion programs for Service members who have not been awarded a high school or equivalency diploma and who are enrolled in such programs.

(ii) In support of the voluntary education and training of active duty Service members during their off-duty periods, each Military Service shall pay all or a portion, as specified in paragraphs (a)(2)(ii)(A) through (F) of this section, of the charges of an educational institution for education and training during the member's off-duty periods.

(A) When an institution's charges are $250.00 or less per semester-hour of credit or its equivalent, the responsible Service shall pay the entire amount charged by the institution. In computing credit equivalency, the following conversions shall apply: 1 quarter hour credit = ⅔ semester hour credit; and 15 contact hours shall be considered equivalent to one semester-hour credit when neither semester- nor quarter-hours are specified for the education or training for which the Service member is enrolled.

(B) When an institution's charges exceed $250.00 per semester-hour of credit, or its equivalent, the responsible Service, subject to appropriations, shall pay $250.00 per semester-hour of credit. The Services shall pay no more than $250.00 per semester-unit for tuition and fees combined.

(C) Each Service member participating in off-duty, voluntary education are eligible for up to $4,500.00, in aggregate, for each fiscal year.

(D) Covered charges include those submitted to the Service by the educational institution for tuition, instructional fees, laboratory fees, computer fees, and other fees directly related to the specific course enrollment of that member in that educational institution. TA funds are not to be used for the purchase of books.

(E) To be eligible to receive TA, a military Service member must meet the minimum requirement of successfully completing basic training. In addition, all respective service requirements must be met to include training qualification, unit assignment, and/or time in service criteria.

(F) When approved in advance and consistent with paragraphs (a)(2)(ii)(A) through (D) of this section, Service members may be reimbursed for charges of an educational institution for certain non-traditional courses for which, as a matter of policy, payment is not authorized until proof of completion is provided.

(iii) The TA rate, credit cap, and annual per capita ceiling, shall be reviewed periodically in consideration of inflation and other effects, and shall be applicable uniformly whether instruction is delivered traditionally in-the-classroom or through distance education. Rates of TA other than as identified in paragraphs (a)(2)(ii)(A) through (F) of this section are not authorized.

(3) TA is available to a commissioned officer on active duty only if the officer agrees to remain on active duty, other than an officer serving in the Ready Reserves, for a period of at least 2 years after the completion of the education or training for which TA was paid (see 10 U.S.C. 2007).

(4) The Secretary concerned may make TA available to a member of the SELRES if (see 10 U.S.C. 2007):

(i) In the case of a commissioned officer, the officer must agree to remain a member of the SELRES for at least 4 years after completion of the education or training for which TA is paid.

(ii) In the case of an enlisted member, the Secretary concerned may require the member of the SELRES to enter into an agreement to remain a member of the SELRES for up to 4 years after completion of the education or training for which TA is paid.

(5) The Secretary concerned may make TA available to a member of the IRR who has a military occupational specialty designated by the Secretary concerned if (see 10 U.S.C. 2007):

(i) In the case of a commissioned officer, the officer must agree to remain a member of the SELRES or IRR for at least 4 years after completion of the education or training for which TA was paid.

(ii) In the case of an enlisted member, the Secretary concerned may require the member of the IRR to enter into an agreement to remain a member of the IRR for up to 4 years after completion of the education or training for which TA is paid.

(6) Members performing Active Guard and Reserve (AGR) duty under either 10 U.S.C. 12301 or active duty under 14 U.S.C. 712 are eligible for TA under paragraph (a)(4) of this section.

(7) Reimbursement for an unfulfilled TA obligation is required as stipulated in 10 U.S.C. 2005 or 37 U.S.C. 303a(e), as they appropriately apply to members of the Active and Reserve components.

(8) To retain TA, students must maintain a cumulative grade point average (GPA) of 2.0 or higher after completing 15 semester hours, or equivalent, in undergraduate studies, or a GPA of 3.0 or higher in graduate studies on a 4.0 grading scale.

(9) TA shall not be authorized for any course for which a Service member receives reimbursement in whole or in part from any other Federal source when the payment would constitute a duplication of benefits. Academic institutions have the responsibility to notify the Service if there is any duplication of benefits, determine the amount of credit that should be returned, and credit the amount back to the Service. The use of funds related to veterans' benefits to supplement TA received by active duty and Reserve component personnel is authorized to pay tuition costs not covered by TA.

(10) Pell Grants may be used in conjunction with TA assistance, including their use to pay that portion of tuition costs not covered by TA.

(11) TA shall be provided for courses provided by institutions awarding degrees based on demonstrated competency, if all of the conditions in paragraphs (a)(11)(i), (ii), and (iii) of this section are met:

(i) Competency rates are equated to semester or quarter units of credit, and

(ii) The institution publishes traditional grade correlations with “Pass/Fail” grades, and

(iii) The institution provides a part-time, less than a full-time unit load option for active duty personnel taking a bundled course load.

(iv) Enrollment in a professional practicum integral to these types of programs is also authorized. However, normal DoD TA caps and ceilings apply; the cost of expanded levels of enrollment over and above these enrollment levels and normal caps and ceilings must be borne by the student.

(12) When used for post-secondary training, TA shall be provided only for courses offered by postsecondary institutions accredited by an accrediting body recognized by the U.S. Department of Education.

(13) To receive TA, an institution must be a signatory of the DoD Voluntary Education Partnership Memorandum of Understanding (MOU) in appendices A, B, C, D, and E to this part, and the MOU must be posted on the DANTES Web site.

(b) Guidelines for establishing, maintaining, and operating voluntary education programs. (1) Education programs established under this part by each Military Service shall:

(i) Provide for the academic, technical, intellectual, personal, and professional development of Service members, thereby contributing to the readiness of the Armed Forces and the quality of life of Service members and their families.

(ii) Increase Service members' opportunities for advancement and leadership by reinforcing their academic skills and occupational competencies with new skills and knowledge.

(iii) Lead to a credential, such as a certificate, diploma, or college degree, signifying satisfactory completion of the educational program.

(iv) Include an academic skills program, as needed, which allows personnel to upgrade their reading, writing, computation, and communication abilities in support of academic skills and military occupations and careers. Academic skills programs may include English as a Second Language and basic science.

(v) Include programs and college offerings that support findings from periodic needs assessments. Duplication of course offerings on an installation should be avoided. However, the availability of similar courses through correspondence or electronic delivery shall not be considered duplication.

(vi) Be described in a publication or on-line source that includes on-installation educational programs, programs available at adjacent installations, and colleges and universities nearby the installation.

(2) Each Military Service, in cooperation with community educational service providers, shall provide support essential to operating effective education programs. This support includes:

(i) Adequate funds for program implementation, administration, and TA.

(ii) Adequately train staff to determine program needs, counsel students, provide testing services, and procure educational programs and services.

(iii) Adequate and appropriate classroom, laboratory, and office facilities and equipment, including computers.

(iv) Access to telecommunications networks, computers, and libraries at times convenient to active duty personnel.

(3) In operating its programs, each Military Service shall:

(i) Provide to newly assigned personnel, as part of their orientation to each new installation or unit of assignment for Reserve component personnel, information about voluntary education programs available at that installation.

(ii) Maintain participants' educational records showing education accomplishments and educational goals.

(iii) Provide for the continuing professional development of their education services staff, including the participation of field staff in professional, as well as Service-sponsored, conferences, symposiums, and workshops.

(iv) Provide educational services, including TA counseling, academic advice and testing to their personnel and to personnel of other Services (including the Coast Guard when acting as a Military Service in the Department of the Navy) who are assigned for duty at installations of the host Service.

(v) Continually assess the state of its voluntary education programs and periodically conduct a formal needs assessment to ensure that the best possible programs are available to their members at each installation or in their state or area command for Reserve component personnel. It is essential that a formal needs assessment be conducted if there is a significant change in the demographic profile of the installation population.

(4) DoD civilian employees, members of the Reserve Components, retirees, and eligible adult family members of active duty personnel, DoD civilian employees, members of the Reserve Components, and retirees may participate in installation postsecondary education programs on a space-available basis and at no cost to the individual Service TA Program.

(5) At locations where an educational program that is offered on an installation is not otherwise conveniently available outside the installation, civilians who are not directly employed by the DoD or other Federal agencies, and who are not eligible family members of DoD personnel, may be allowed to participate in installation educational programs. While such participation contributes to positive community relations, participation must be on a student-funded, space-available basis, after the registration of military personnel, civilian employees, and eligible adult family members. Participation may also be subject to the terms of Status of Forces or other regulating agreements.

(6) Education centers and Navy College offices shall maintain liaison with appropriate State planning and approving agencies and coordinating councils to ensure that planning agencies for continuing, adult, or postsecondary education are aware of the educational needs of military personnel located within their jurisdiction.

(7) In operating a High School Program, each Military Service shall ensure the following:

(i) All Service members with less than a high school education shall have the opportunity to attain a high school diploma or its equivalent.

(ii) Neither a Military Service nor DANTES shall issue a certificate or similar document to Service members based on performance on high school equivalency tests. Military Services shall recognize attainment of high school completion or equivalency only after a State- or territory-approved agency has awarded the appropriate credential.

(iii) The Military Services shall pay 100 percent of the cost of high school equivalency instruction or proficiency testing and credentialing for Service members.

(iv) High school diploma programs must be delivered by institutions that are accredited by a regional accrediting body or recognized by a State's secondary school authority.

(c) Procedures for obtaining voluntary education programs and services on military installations. (1) Educational institutions interested in providing education and training opportunities on a military installation will provide their proposals to the installation education advisor, who will review and analyze these requests of the institutions on behalf of the installation commander.

(2) To obtain viable educational programs on a military installation, the installation education advisor shall communicate the installation's educational needs to a wide variety of potential providers.

(3) A military installation seeking to obtain educational programs shall provide the following information to interested providers:

(i) The level of instruction desired and specific degree programs being sought.

(ii) A demographic profile of the installation population and probable volume of participation in the program.

(iii) Facilities, equipment, and supporting services that the installation will provide without charge.

(iv) A copy of this part.

(v) Special requirements such as:

(A) Format (e.g., distance, evening, or weekend classes), independent study, short seminar, or other mode of delivery of instruction.

(B) Unique scheduling problems related to the operational mission of the installation.

(C) Any installation restrictions, limitations, or special considerations relevant to using an alternate delivery system (distance learning).

(4) In addition to the information in paragraph (c)(3) of this section, a military installation seeking to use alternate modes for the delivery of instruction shall inform potential providers about the following:

(i) Available computer hardware and supporting equipment.

(ii) Availability of space and level of security that can be expected.

(iii) Electrical, satellite, and network capabilities at the site.

(5) A Military Service considering an alternate delivery provider shall ascertain:

(i) If students will need special training or orientation for special courses or programs or for alternate delivery methods (distance learning, etc.) and, if so, how students will receive such orientation.

(ii) What electronic equipment and technical support are necessary at local sites.

(iii) If it will be necessary to have on-site facilitators.

(6) In evaluating proposals from potential providers, preference shall be given to those that meet the following criteria:

(i) Programs satisfy objectives defined by the most recent needs assessment.

(ii) Programs, courses, and completion requirements are the same as those at the provider's main administrative and academic campus.

(iii) The institution granting undergraduate academic credit must adhere to the Servicemembers Opportunity Colleges SOC Consortium Principles and Criteria (available at http://www.soc.aascu.org/socconsortium/PublicationsSOC.html) principles regarding the transferability of credit and the awarding of credit for military training and experience.

(iv) The provider is prepared to offer academic counseling and flexibility in accommodating special military schedules.

(7) In evaluating proposals from potential alternative delivery providers, preference shall be given to those that meet the following additional criteria:

(i) Documentation shows that courses offered using the alternative delivery mode have been used successfully for at least two years.

(ii) The program and delivery method address the needs of the population to be served.

(iii) Support systems exist to back up the delivery method.

(8) In establishing education programs on military installations, appropriate government officials shall seek favorable tuition rates, student services, and instructional support from providers.

(d) Minimum criteria for selecting institutions to deliver higher education programs and services on military installations. To be selected, institutions must:

(1) Be chartered or licensed by a State government or the Federal Government, and have State approval for the use of veterans' educational benefits for the courses to be offered.

(2) Be accredited by an agency recognized by the U.S. Department of Education.

(3) Conduct programs only from among those offered or authorized by the main administrative and academic office in accordance with standard procedures for authorization of degree programs by the institution.

(4) Ensure main administrative and academic office approval in faculty selection, assignment, and orientation; and participation in monitoring and evaluation of programs. Adjunct or part-time faculty shall possess comparable qualifications as full-time permanent faculty members.

(5) Conduct on-installation courses that carry identical credit values, represent the same content and experience, and use the same student evaluation procedures as courses offered through the main administrative and academic campus.

(6) Maintain the same admission and graduation standards that exist for the same programs at the main administrative and academic office, and include credits from courses taken off-campus in establishing academic residency to meet degree requirements.

(7) Provide library and other reference and research resources, in either print or electronic format, that are appropriate and necessary to support course offerings.

(8) Establish procedures to maintain regular communication between central institutional academic leadership and administrators and off-campus representatives and faculty. (Any institution's proposal must specify these procedures.)

(9) Provide students with regular and accessible counseling services either electronically or in-person.

(10) Charge tuition and fees that are not more than those charged to nonmilitary students.

(11) Have established policies for awarding credit for military training by examinations, experiential learning, and courses completed using modes of delivery other than instructor-delivered, on-site classroom instruction.

(e) DANTES. (1) Policy control and recommendations for DANTES shall be developed with the advice of the Interservice Voluntary Education Board.

(2) Selection and rating of the Director, DANTES. (i) The DUSD(MC&FP) will convene and chair the search committee responsible for replacing the Director, DANTES, when the position is vacated. At the request of the USD(P&R), the Service Secretaries will provide a senior manager to sit on the search committee. The committee will recommend the best qualified candidate to the DoD EA for possible appointment as the Director, DANTES.

(ii) The Director, State Liaison and Educational Opportunity, or its successor function, will be the rater of the Director, DANTES. The DUSD(MC&FP) will serve as the second-level rater.

(3) DANTES will:

(i) Develop, update, maintain and generate a registry of, and required reports pertaining to, MOUs of institutions approved to receive military TA for traditional and DL programs and courses.

(ii) Support the Service Voluntary Education programs by executing the program outlined in this part and the annual USD(P&R) policy guidance.

(iii) Provide execution information to the Interservice Voluntary Education Board quarterly and provide information required to assist with the Program Objective Memorandum development as requested by the Board.

Appendix A to Part 68—DoD Voluntary Education Partnership Memorandum of Understanding (MOU) Between DoD Office of the Under Secretary of Defense for Personnel and Readiness (USD(P&R)) and [NAME OF EDUCATIONAL INSTITUTION]

1. Preamble

a. Providing access to quality postsecondary education opportunities is a strategic investment that enhances our Service member's ability to support mission accomplishment and successfully return to civilian life. A forward-leaning, lifelong learning environment is fundamental to the maintenance of a mentally powerful and adaptive leadership-ready force. Today's fast-paced and highly mobile environment, where frequent deployments and mobilizations are required to support our Nation's policies and objectives, requires DoD to sponsor postsecondary educational programs using a variety of learning modalities, which include instructor-led courses offered both on-installation and off-installation, as well as distance learning options. All are designed to support the professional and personal development and progress of our Service members and our DoD civilian workforce.

b. Making these postsecondary programs available to the military community as a whole further provides Service members, their eligible adult family members, DoD civilian employees, and retirees ways to advance their personal education and career aspirations, prepare them for future vocational pursuits, both inside and outside of DoD, and thus helps strengthen our Nation by producing a well-educated citizenry. This ensures the availability of a significant quality-of-life asset that enhances recruitment and retention efforts in an all-volunteer force.

2. Purpose

a. This MOU articulates the commitment and agreement educational institutions provide to DoD make by accepting funds via each Service's tuition assistance (TA) program in exchange for education services.

b. This MOU is not an obligation of funds nor a guarantee of program enrollments by DoD personnel, their eligible adult family members, DoD civilian employees, and retirees in an educational institution's academic programs, nor a guarantee for installation access.

c. This MOU covers courses delivered by educational institutions through all modalities. These include, but are not limited to, classroom instruction, distance education (i.e., web-based, CD-ROM, or multimedia) and correspondence courses.

d. This MOU includes the following education programs: High school programs, academic skills programs, and adult education programs for military personnel and their eligible adult family members.

e. This MOU articulates regulatory and governing directives and instructions:

(1) Eligible DoD recipients are governed by DoD Instruction 1322.25, DoD Directive 1322.08E, and each Military Service's policies, regulations, and fiscal constraints.

(2) Outside of the United States, education programs shall be operated in accordance with guidance from DoD Instruction 1322.25, DoD Instruction 1322.19, section 518 of Public Law 101-189 (10 United States Code Section 113 note), and under the terms of the Tri-Services contract currently in effect.

f. This MOU is subject at all times to the rules, guidelines, and regulations of DoD. Any conflicts between this MOU and such rules, guidelines, and regulations will be resolved in favor of the rules, guidelines, or regulations.

3. Educational Institution (Including Certificate and Degree Granting Educational Institutions) Requirements for TA

a. Have a signed MOU with DoD and adhere to requirements below prior to being eligible to receive TA payments. The MOU includes Service-specific addenda (see Appendix B, C, D, and E of 32 CFR part 68).

(1) Those educational institutions that have a current MOU with DoD will sign this MOU at the expiration of their current MOU, or at the request of DoD or the specific Military Service holding a separate current MOU.

(2) Educational institutions must comply with this MOU and Service-specific addenda requirements that do not conflict with governing rules, guidelines, and regulations. Educational institutions failing to comply with requirements set forth in this MOU may receive a letter of warning, denial of establishment of new programs, termination of the MOU, removal from the installation, and/or withdrawal of approval of issuance of TA.

b. Must be accredited by an accrediting agency recognized by the U.S. Department of Education.

c. Agree to support the regulatory guidance provided by DoD and the Services.

d. Adhere to the Servicemembers Opportunity Colleges (SOC) Consortium Principles, Criteria, and Military Student Bill of Rights. (Principles and Criteria available at http://www.soc.aascu.org/socconsortium/PublicationsSOC.html; Bill of Rights available at http://www.soc.aascu.org/socconsortium/PublicationsSOC.html). SOC Principles are based on the principles set forth in the Joint Statement on the Transfer and Award of Credit (available at http://www.acenet.edu/Content/NavigationMenu/ProgramsServices/CLLL/Joint.htm), which were developed by members from the American Association of Collegiate Registrars and Admissions Officers (AACRAO), the American Council on Education (ACE), and the Council for Higher Education Accreditation (CHEA).

e. Recognize, accept, and award credit where appropriate, from the Army/American Council on Education Registry Transcript System, the Sailor/Marine American Council on Education Registry Transcript System, the Community College of the Air Force (CCAF), and the Coast Guard Institute transcript as the official sources of military training and experience documentation with corresponding college credit recommendations, when processing the individual's documented education plan.

f. Agree to participate in the Military Voluntary Education Review (MVER) process when requested. This requirement applies not only to institutions providing courses on military installations, but also to those institutions providing postsecondary instruction not located on the military installation and via distance learning.

4. TA Program Requirements for Educational Institutions

a. One Single TA Rate. Educational institutions will have one single TA rate for all Service members, regardless of Service component, within a specific Office of Postsecondary Education identification number (OPE ID). The OPE ID is assigned by the Department of Education to institutions approved to participate in federal student financial aid programs. This single TA rate includes active duty military members, members of the Reserve components, and the National Guard.

b. Course Enrollment Information. The educational institutions will provide course enrollment, course withdrawal, course cancellation, course completion or failure, grade, verification of degree completion, and billing information to the TA issuing Service's education office, as outlined in the Service's regulations and instructions.

c. Educational plan.

(1) Institutions will provide an evaluated educational plan to the Service member and his or her Service upon meeting one of the following conditions:

(a) Within 60 days after the individual has been accepted for admission; or

(b) After all required transcripts have been provided; or

(c) After individual has completed 6 semester hours with the institution.

(2) Institutions will submit a new evaluated educational plan when a Services' education advisor approves a change in the Service member's educational goal.

(3) When an educational plan is issued, institutions will not add, delete, or change course requirements after the student accepts the education plan and begins the course of study.

d. Approved and Valid Courses.

(1) Approved Courses. If an eligible Service member decides to use TA, educational institutions will enroll him or her only after the TA is approved by the individual's Service. Service members will be solely responsible for all tuition costs without this prior approval. This requirement does not prohibit an educational institution from pre-registering a Service member in a course in order to secure a slot in the course.

(2) Valid Courses.

(a) Part of an individual's evaluated educational plan; or

(b) Pre-requisites for courses within the individual's evaluated educational plan; or

(c) Required for acceptance into a higher-level degree program, unless otherwise specified by Service regulations.

e. Use of Financial Aid with TA.

(1) “Top-Up” eligible active duty DoD personnel may use this Montgomery or Post-9/11 G.I. Bill benefit in conjunction with TA funds from their Service to cover those course costs to the Service member that exceed the amount of TA paid by his or her Service.

(2) DoD personnel are entitled to consideration for all forms of financial aid that educational institutions make available to students at their home campus. Educational institution financial aid officers shall provide information and application processes for scholarships, fellowships, grants, loans, etc., to DoD TA recipients.

(3) DoD TA recipients, who also qualify for Pell Grants through the Department of Education's Free Application for Financial Student Assistance program, shall have their TA benefits applied to their educational institution's account prior to the dispersal of their Pell Grant funds.

f. Administration of Tuition and Fees.

(1) The Services will provide TA in accordance with DoD- and Service-appropriate regulations. Any additional costs will be paid by the Service member to the institution at the time of registration in accordance with the institution's policy.

(2) TA will be limited to tuition and reimbursable fees/costs specifically required as a condition of enrollment in a particular class.

(3) Tuition charged to a Service member will in no case exceed the rate charged to nonmilitary students, unless agreed upon in writing by both the institution and the Service.

(4) The tuition and fee structure for the degree programs the institution proposes to offer on the installation must be provided annually. Any changes in the tuition and fee structure will be provided to and justified to all the Services, as soon as possible, but not fewer than 90 days prior to implementation. If the MOU is with a single educational institution, at a single location, with only one Service, the justification will be provided to that Service, which will then provide that information to the other Services.

(5) Refunds of government-funded TA will be paid in accordance with the institution's published refund policy and will go to the Service, not to the Service member.

(6) The institution will refund to the Service the total amount of tuition and fees paid for a course that is cancelled by the institution.

(7) TA invoicing information is located in the Service-specific addenda attached to this MOU.

g. Course Cancellations. Institutions are responsible for notifying Service members of class cancellations for both classroom and distance learning courses.

h. Materials and Electronic Accessibility.

(1) Institutions will ensure that course materials are readily available, either electronically or in print medium, and provide information about where the student may obtain class materials at the time of enrollment/registration.

(2) Institution representatives will counsel students to refrain from purchasing course materials prior to confirmation of sufficient enrollments for conduct of the class. Students will be encouraged to verify course acceptance by CCAF (Air Force only) or other program(s), with the installation education advisor before enrolling and/or requesting TA.

(3) Institutions will provide students with electronic access to their main administrative and academic center's library materials and professional services, as well as periodicals and books.

i. Graduation Achievement Recognition.

(1) The educational institution shall issue, at no cost to the Government, documentation as proof of completion, such as a diploma or certificate, to each student who completes the respective program requirements and meets all financial obligations.

(2) In accordance with Service requirements, the institutions shall provide the Government a list of those TA recipients who have completed a certificate, diploma, or degree program. The list will include the degree level, major, and major program requirements completion date.

(3) The institution shall make no distinction on any credential to reflect that the course(s) or program(s) were not conducted at its main administrative and academic center.

(4) The institution shall provide students the opportunity to participate in a graduation ceremony.

j. Reporting Requirements and Performance Metrics.

(1) The institution shall provide electronic reports on all DoD TA recipients for programs and courses offered to personnel at each installation as required by the Service. This includes, but is not limited to, TA transactions, final course grades to include incompletes and withdrawals, degrees awarded, certificates earned, documented educational plans, courses offered, class rosters, and military graduation.

(2) The Service may evaluate the institution's overall effectiveness in administering its academic program, courses, and customer satisfaction to DoD. A written report of the findings will be provided to the institution. The institution shall have 90 calendar days to review the report, investigate if required, and provide a written response to the findings.

(3) The Services may request reports from an institution at any time, but not later than 2 years after termination of the MOU with such institution. Responses to all requests for reports shall be provided within 14 calendar days.

5. Requirements and Responsibilities for the Delivery of On-Installation Voluntary Education Programs and Services

a. Educational Institutions.

(1) Will agree to have a separate Installation MOU if they have a Service agreement to provide on-installation courses/degree programs. The Installation MOU contains the installation-unique requirements, which will be coordinated, documented, and retained by the installation's education advisor, with concurrence from the appropriate Service voluntary education representative, and presented to the Installation Commander for final approval.

(2) Will comply with the installation-unique requirements in the Installation MOU that do not conflict with the DoD Voluntary Education Partnership MOU and governing regulations.

(3) Will agree to coordinate degree programs offered on the installation with the installation's education advisor, who will receive approval from the Installation Commander, prior to opening of classes for registration.

(4) Will admit candidates to the institution's on-installation programs at their discretion; however, priority for registration in installation classes will be given in the following order to:

(a) Active duty, Reserve, and National Guard Personnel;

(b) Eligible adult family members of active duty and Reserve component personnel;

(c) Federally funded DoD civilian employees;

(d) Military retirees, other DoD personnel and their eligible adult family members; and civilians (on a space-available basis and subject to the Installation Commander's authorization) when their enrollment is in the best interest of the installation's program.

(5) Will provide the installation's education advisor, as appropriate, a tentative annual schedule of course offerings to ensure that the educational needs of the military population on the installation are met and to ensure no course or scheduling conflicts with other on-installation programs.

(6) Will provide instructors for their installation courses who meet the criteria established by the institution to qualify for employment as a faculty member on the main administrative and academic center.

(7) Will inform the installation education advisor about class cancellations for classroom-based classes on military installations no later than seven calendar days prior to the beginning of the term.

b. Military Service on the Installation.

(1) The Services' designated installation representative (usually the installation education advisor), shall be responsible for determining the local voluntary education program needs for the serviced military population and for selecting the off-duty educational programs to be provided on the installation, in accordance with the Services' policies. The Service, in conjunction with the educational institution, shall provide support services essential to operating effective educational programs. All services provided will be commensurate with the availability of resources (personnel, funds, and equipment). This support includes:

(a) Classroom and office space, as available. The Service will determine the adequacy of provided space.

(b) Repairs as required to maintain office and classroom space in “good condition” as determined by the Service, and utility services for the offices and classrooms of the institution located on the installation, e.g., electricity, water, and heat.

(c) Standard office and classroom furnishings within available resources. No specialized equipment will be provided.

(d) Janitorial services in accordance with installation facility management policies and contracts.

c. The Service reserves the right to disapprove installation access to any employee of the institution employed to carry out any part of this MOU.

d. Operation of a privately owned vehicle by institution employees on the installation will be governed by the installation's policies.

e. The installation education advisor will check with his or her Service's responsible office for voluntary education prior to allowing an educational institution to enter into an MOU with the installation.

6. Review, Changes, Signatures, Effective Date, and Expiration Date

a. Review. The signatories (or their successors) will review this MOU periodically in coordination with the Services, but no less than every 5 years to consider items such as current accreditation status, updated program offerings, and program delivery services.

b. Changes. Changes to this MOU will be in writing and shall be subject to approval by both of the signatories below, or their successors.

c. Signatures. The authorized signatory for DoD will be designated by the USD(P&R). The authorized signatory for the institutions will be determined by the institution.

d. Effective Date. This MOU is effective on the last date of signature below.

e. Expiration Date. This MOU will expire 5 years from the effective date below, unless terminated or updated prior to that date in writing by DoD or the Institution. The notice period is 30 days following a written termination notification.

FOR the DEPARTMENT OF DEFENSE:

DESIGNATED SIGNATOR

DATE:

FOR THE INSTITUTION:

PRESIDENT or Designee

DATE:

Appendix B to Part 68—Addendum for Education Services Between [NAME OF EDUCATIONAL INSTITUTION] and the U.S. Air Force

1. Purpose. This addendum is between (Name of Educational Institution), hereafter referred to as the “Institution,” and the United States Air Force (USAF). The purpose of this agreement is to provide guidelines and procedures for the delivery of educational services to active duty personnel, reservists, eligible retired military personnel, and DoD employees, civilians, and the eligible adult family members not covered in the DoD Voluntary Education Partnership Memorandum of Understanding (MOU) between the DoD Office of the Under Secretary of Defense for Personnel and Readiness and the Institution. This addendum is not to be construed in any way as giving rise to a contractual obligation of the USAF to provide funds to the Institution that would be contrary to Federal law.

2. Responsibilities.

a. USAF Education and Training Section (ETS) Chief will:

(1) Maintain a continuing liaison with the designated Institution representative and be responsible for inspections and the acceptance of the Institution's services. The ETS Chief will assist the Institution representative to provide military and USAF culture orientation to the Institution personnel.

(2) Review requests from Institutions with no on-installation MOU, for permission of installation access and space within the Education and Training Section (ETS) to counsel current students, provide information briefings and materials, attend Education Fairs, and other informational services approved by the Installation Commander. Approval of such requests by the ETS Chief will be based on space/time availability as well as need of the installation population.

(3) Assist the Institution with registration and training in the Academic Institution Portal (AI Portal) to input basic Institution information, degree offerings, tuition rates, grades, invoices, and search tools pre-built into the AF on-line Voluntary Education system.

b. Institutions will:

(1) Appoint and designate an Institution representative to maintain a continuing liaison with the USAF ETS Chief.

(2) Provide a basic education plan to each Airman and the ETS as soon as he/she decides to register with the Institution and while awaiting final evaluation of transfer credits.

(3) Assume responsibility for the administration and proctoring of all course examinations not normally administered and proctored within the traditional, in-the-classroom setting.

(4) Counsel interested Airmen on Academic Institution (AI) policies, to include but not limited to course withdrawal dates and penalties, course cancellation procedures, course grade publication, fees (covered by military tuition assistance (TA) and not covered by military TA), billing practices, and policy regarding incompletion of a course.

(5) Register and use the AI Portal to input AI basic information, degree offerings, tuition rates, invoice submission, course grades submission, and to pull pre-established educational institution reports while conducting business with the USAF.

(6) Submit one consolidated invoice per term via the AI Portal for each class in which active duty military Airmen are enrolled using the Mil TA. Submission will be made during the term, no later than the final add/drop/census date, and no later than 30 calendar days after the end of the term.

(7) Submit course grades via the AI Portal for each class in which active duty military Airmen are enrolled using Mil TA. Submission will be made no later than 30 calendar days after the end of the term.

(8) Accept the Government Purchase Card (GPC) for payment of Mil TA when the AI accepts credit cards for any part of AI business.

(9) Provide a list of program graduates via the AI Portal consisting of student name, program title, program type (such as bachelor's degree), and date of graduation no later than 30 calendar days after the end of the term in which graduation requirements are completed.

(10) All Institutions with no on-installation MOU will request permission for installation access and space within the ETS to counsel current students, provide information briefings and materials, attend Education Fairs, and other informational services approved by the Installation Commander. Approval of such requests by the ETS Chief will be based on space/time availability as well as need of the installation population in accordance with installation policy.

(11) All Institutions with an on-installation MOU or invitation for an on-installation activity, such as an educational fair, are authorized to counsel or provide information on any of their programs.

3. Additional Guidelines.

a. In addition to DoD policy outlined in the DoD MOU, the authorization of military tuition assistance (Mil TA) is further governed by Air Force Instruction (AFI) 36-2306, as well as applicable policy and guidance.

b. Installation access of non-DoD and non-installation personnel is at the discretion of the Installation Commander. Access once provided can be revoked at any time due to military necessity or due to conduct that violates installation rules or policies.

c. Release and waive all claims against the United States, its agents, officers, and employees arising out of the use of Air Force facilities, equipment, supplies, and services, by the Institution, its officers, agents, employees, and non-DoD affiliated students. The Institution further agrees to defend, pay, or settle all claims arising out of the use of Air Force facilities based upon the negligence, gross negligence, or willful misconduct of its agents, officers, employees, and non-DoD affiliated students. The Institution will hold the United States harmless from any claims arising out of the acts or omissions of the Institution its agents, representatives, officers, employees, and non-DoD affiliated students.

d. Cancellation provision. This addendum may be cancelled by either the USAF or Institution 30 days following the receipt of written notification from the cancelling party.

Appendix C to Part 68—Addendum for Education Services Between [NAME OF EDUCATIONAL INSTITUTION] and the U.S. Army

1. Purpose. This addendum is between (Name of Educational Institution), hereafter referred to as the “Institution,” and the United States Army. The purpose of this agreement is to provide guidelines and procedures for the delivery of educational services to active duty personnel, reservists, eligible retired military personnel, and DoD employees, civilians, and the adult family members not covered in the DoD Voluntary Education Partnership Memorandum of Understanding between the DoD Office of the Under Secretary of Defense for Personnel and Readiness and the Institution. This addendum is not to be construed in any way as giving rise to a contractual obligation of the United States Army to provide funds to the Institution that would be contrary to Federal law.

2. Responsibilities.

a. Army Education Services Officer (ESO) will: In support of this addendum, maintain a continuing liaison with a designated Institution representative and be responsible for inspections and the acceptance of the Institution's services. The ESO will provide assistance to the Institution representative to provide military and Army culture orientation to the Institution personnel.

b. Institution will:

(1) Appoint and designate an Institution representative to maintain a continuing liaison with the Army ESO.

(2) Adopt the GoArmyEd processes. GoArmyEd is the Army Continuing Education System's (ACES) centralized and streamlined management system for the Army's postsecondary voluntary education programs. Existing Memorandums of Understanding/Agreements, Tri-Services contracts, or other contracts that Institutions may have with military installations and ACES remain in place and should be supplemented with DoD Instruction 1322.25.

(3) Agree to all of the terms in the ACES Policies and Procedures, available at https://www.hrc.army.mil/site/education/GoArmyEd_School_Instructions.html, such as: invoicing, grades, reports, library references, etc.

c. Cancellation provision. This addendum may be cancelled by either the Army or Institution 30 days following the receipt of written notification from the cancelling party.

Appendix D to Part 68—Addendum for Education Services Between [NAME OF EDUCATIONAL INSTITUTION] and the U.S. Marine Corps

1. Purpose. This addendum is between (Name of Educational Institution), hereafter referred to as the “Institution,” and the U.S. Marine Corps. The purpose of this agreement is to provide guidelines and procedures for the delivery of educational services to active duty personnel, reservists, eligible retired military personnel, and Department of Defense (DoD) employees, civilians, and the adult eligible family members not covered in the DoD Voluntary Education Partnership Memorandum of Understanding between the DoD Office of the Under Secretary of Defense for Personnel and Readiness and the Institution. This addendum is not to be construed in any way as giving rise to a contractual obligation of the United States Marine Corps to provide funds to the Institution that would be contrary to Federal law.

2. Responsibilities.

a. Marine Corps Education Services Officer (ESO) will: In support of this addendum, maintain a continuing liaison with a designated Institution representative and be responsible for inspections and the acceptance of the Institution's services. The ESO will provide assistance to the Institution representative to provide military and Marine Corps culture orientation to the Institution personnel.

b. Institution will:

(1) Appoint and designate an Institution representative to maintain a continuing liaison with the Marine ESO.

(2) Be responsible, through its faculty and administration, for making sure that adequate print and non-print media resources to support all courses being offered are available at base/installation library facilities, on-site institution resource area, and/or via electronic transmission. Special resources for individual courses, including copies of relevant periodicals, should be placed in the base/installation library or made available by the Institution.

(3) Provide open enrollment in courses conducted through media (e.g., portable media devices or computer-aided). Those courses shall be on an individual enrollment basis.

(4) Provide all required equipment when the Institution provides instruction via media.

(5) Provide library services to the Marine Corps base/installation for students in the form of research and reference materials (e.g., books, pamphlets, magazines) of similar quality to the support provided students on the institution's home campus. Services shall also include research and reference material in sufficient quantity to meet curriculum and program demands. Materials shall be, at a minimum, the required readings of the instructor(s) for a particular course or program, or the ability for the student to request a copy of such material, from the institution's main library, without any inconvenience or charge to the student (e.g., a library computer terminal which may allow the student to order material and have it mailed to their residence).

(6) Route locally generated publicity through the base ESO.

(7) Permit employment of off-duty military personnel or Government civilian employees by the institution, provided such employment does not conflict with the policies set forth in DoD Regulation 5500.7-R, “Joint Ethics Regulation.” However, Government personnel employed in any way in the administration of this addendum will be excluded from such employment because of conflict of interest.

3. Billing Procedures, Formal Grades, and Cancellation Provision.

a. Invoices from institutions must be forwarded to: NETPDTC (Code N8115) Pensacola, FL 32509-5241 within 30 days of course completion.

b. All invoices must have the student name (if more than one name, alphabetically by last name), social security number, course number and description, government cost for each course, and total amount of invoice.

c. All invoices must have an invoice number and date.

d. If the institution has any problems with the billing of an invoice, the institution must notify NETPDTC (Code N8115) Pensacola, FL 32509-5241.

e. Grade reports will be provided to NETPDTC (Code N8115) within 30 days of term ending date or completion of the course, whichever is earlier.

f. Cancellation provision. This addendum may be cancelled by either the Marine Corps or Institution 30 days following the receipt of written notification from the cancelling party.

Appendix E to Part 68—Addendum for Education Services Between [NAME OF EDUCATIONAL INSTITUTION] and the U.S. Navy

1. Purpose. This addendum is between (Name of Educational Institution), hereafter referred to as the “Institution,” and the United States Navy. The purpose of this agreement is to provide guidelines and procedures for the delivery of educational services to active duty personnel, reservists, eligible retired military personnel, and the Department of Defense (DoD) employees, civilians, and the adult family members not covered in the DoD Voluntary Education Partnership Memorandum Understanding (MOU) between the DoD Office of the Under Secretary of Defense for Personnel and Readiness and the Institution. This addendum is not to be construed in any way as giving rise to a contractual obligation of the Department of the Navy to provide funds to the academic institution that would be contrary to Federal law. This agreement may be amended by the Navy because of changes in statute, executive order, Navy directive, or other federal, state, or local government requirement. Other proposed amendments shall be communicated in writing to the other party, and that party shall have 90 days to provide a written response, and such amendments will only be made upon mutual consent of the parties. This addendum does not extend to any third party contracts between the educational institution and other non-educational institutions.

2. Responsibilities.

a. Commanding Officer responsible for execution of the Voluntary Education program shall:

(1) Be responsible for determining the local voluntary education program needs for the Navy population to be served and for recommending to the installation commander the educational programs to be offered on the base;

(2) Administer this agreement and provide program management support;

(3) Change Education Services Officer (ESO) to Navy College Office Staff;

(4) Manage the Navy College program Distance Learning Partnership (NCPDLP) agreements.

b. Navy ESO will: In support of this addendum, maintain a continuing liaison with the designated Institution representative and be responsible for inspections and the acceptance of the Institution's services. The ESO will provide assistance to the Institution representative to provide military and Navy culture orientation to the Institution personnel.

c. Institution will:

(1) For distance learning partner institution, comply with NCPDLP agreements.

(2) Appoint and designate an Institution Representative to maintain a continuing liaison with the Navy College Office Staff.

(3) Comply with Wide Area Work Flow processes for invoicing of tuition assistance.

(4) Provide a link to the academic institution through the Navy College Program Web Site, only if designated as NCPDLP school.

(5) Display the academic institution's advertising materials (i.e., pamphlets, posters, and brochures) at all Navy College Offices, only if designated as NCPDLP school.

(6) Upon request of the Navy College Office, provide and arrange access to the library and other academic reference and research resources in print or on-line format that are appropriate or necessary to support the courses offered. In addition, these library resource arrangements will be in accordance with the standards of the institution's accrediting association and the State Regulatory Agency having jurisdiction over the academic institution.

(7) Respond to e-mail message from students within one workday. Ensure toll-free telephonic access to academic counseling. Such telephonic access shall be available both in the continental United States and overseas.

(8) Comply with host command procedures before starting instructor-based courses on any Navy installation. The Navy College Office shall negotiate a separate agreement with the academic institution in concert with the host command procedures.

(9) Mail an official transcript indicating degree completion, at no cost to the Sailor or the government to the following address: Navy College Center, VOLED DET N211, Center for Personal and Professional Development, 6490 Saufley Field Road, Pensacola, FL 32509-5204.

d. Other responsibilities. Except as otherwise provided in the agreement, any dispute concerning an interpretation of, or a question of fact arising under this agreement which is not disposed of by mutual consent shall be decided by the Commanding Officer CPPD. This decision shall be in writing and constitute the final administrative determination.

e. Cancellation provision. This addendum may be cancelled by either the Navy or Institution 30 days following the receipt of written notification from the cancelling party.

Dated: July 26, 2010.
Patricia L. Toppings,
OSD Federal Register Liaison Officer, Department of Defense.

[FR Doc. 2010-19314 Filed 8-5-10; 8:45 am]

BILLING CODE 5001-06-P